DEPARTMENT OF DEFENSE

Office of the Secretary

[Docket ID: DoD-2015-OS-0048]

Proposed Collection; Comment Request

AGENCY: Defense Security Service (DSS), DoD.

ACTION: Notice.

SUMMARY: In compliance with the Paperwork Reduction Act of 1995, the Defense Security Service (DSS) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Security Service, ATTN: Mr. Robert C. Morton, OCIO, Russell-Knox Building, 27130 Telegraph Road, Quantico, VA 22134-2253, or call Defense Security Service, (571) 305-6442.

SUPPLEMENTARY INFORMATION: Title; Associated Form; and OMB Number: “Department of Defense Security Agreement,” “Appendage to Department of Defense Security Agreement,” “Certificate Pertaining to Foreign Interests;” DD Forms, 441, 441-1 and SF 328; OMB No. 0704-0194.

Needs and Uses: Executive Order (EO) 12829 as amended, “National Industrial Security Program (NISP),” stipulates that the Secretary of Defense shall serve as the Executive Agent for inspecting and monitoring the contractors, licensees, and grantees who require or will require access, to or who store or will store classified information; and for determining the eligibility for access to classified information of contractors, licensees, and grantees and their respective employees. The specific requirements necessary to protect classified information released to private industry are set forth in Department of Defense (DoD) 5220.22M, “National Industrial Security Program Operating Manual (NISPOM),” dated February 28, 2006 as amended by Conforming Change 1, dated March 28, 2013. These forms are mandated in the Industrial Security Regulation DoD 5220.22-R dated December 1985 as amended, DoD 5220.22—NISP Volume 3, dated April 17, 2014 and The Federal Acquisition Regulation. Respondents must execute DD Form 441, “Department of Defense Security Agreement,” which is the initial agreement between the contractor and the government regarding security requirements necessary to protect classified information associated with the contract. This legally binding document details the responsibility of both parties and obligates the contractor to fulfill the requirements outlined in DoD 5220.22M. The DD Form 441-1, “Appendage to Department of Defense Security Agreement,” is used to extend the agreement to branch offices of the contractor. The SF Form 328, “Certificate Pertaining to Foreign Interests,” must be submitted to provide certification regarding elements of Foreign Ownership, Control or Influence (FOCI) as stipulated in paragraph 2-302 of the NISPOM.

DSS proposes to make changes to the DD Form 441 and SF 328. The requirement for execution of the corporate “Certificate” section and the use of a corporate seal is being deleted. Currently the government does not require all corporations to execute the corporate Certificate portion of the Forms. Only those corporations who are in possession of a seal were being required to execute the Certificate. Corporations that do not have a seal and other types of businesses structures such as limited liability companies, partnership and sole proprietors are only required to have the signing of the agreement witnessed. DSS proposes that a witness is sufficient for all companies whether or not they are a corporation.

Affected Public: Business, other profit, and non-profit organizations under DoD Security Cognizance.

DD 441 Total Annual Burden Hours: 698.13.

DD Form 441 Number of Respondents: 2,992.

Total DD Form 441 Responses: 2,992.

Average Burden Hours per Respondent: 14 minutes.

Number of Responses per Respondent: 1.

DD Form 441-1 Total Annual Burden Hours: 171.5.

Total DD Form 441-1 Respondents: 1,029.

Total DD Form 441-1 Responses: 1,029.

Average Burden Hours per Respondent: 10 minutes.

Number of Responses per Respondent: 1.

SF 328 Total Annual Burden Hours: 3,301.67.

Total SF 328 Respondents: 2,830.

Total SF 328 Responses: 2,830.

Averge Burden Hours per Respondent: 1 hour 10 minutes or 70 MINUTES.

Number of Responses per Respondent: 1.

Combined Total Number of Respondents: 6,851.

Combined Total Number of Responses: 6,851.

Combined Total Burden Hours: 4,171.3.

Combined Total Burden Hours per Respondent: 1.5 or 94 minutes.

Frequency: On occasion.

The execution of the DD Form 441, 441-1 and SF 328 is a factor in making a determination as to whether a contractor company is eligible to have a facility security clearance. It is also a legal basis for imposing NISP security requirements on eligible contractors. These requirements are necessary in order to preserve and maintain the security of the United States through establishing standards to prevent the improper disclosure of classified information.

Dated: May 11, 2015.
Aaron Siegel,
Alternate OSD Federal Register Liaison Officer, Department of Defense.

[FR Doc. 2015-11671 Filed 5-14-15; 8:45 am]

BILLING CODE 5001-06-P